DEPARTMENT OF STATE

[Public Notice 5607]

30-Day Notice of Proposed Information Collection: DS-1884, Petition To Classify Special Immigrant Under INA 203(b)(4) as an Employee or Former Employee of the U.S. Government Abroad, OMB Control Number 1405-0082

ACTION: Notice of request for public comment and submission to OMB of proposed collection of information.

SUMMARY: The Department of State has submitted the following information collection request to the Office of Management and Budget (OMB) for approval in accordance with the Paperwork Reduction Act of 1995.

• Title of Information Collection: Petition for Classify Special Immigrant Under INA 203(b)(4) as an Employee or Former Employee of the U.S. Government Abroad.

• OMB Control Number: 1405-0082.

• Type of Request: Extension of a Currently Approved Collection.

• Originating Office: Bureau of Consular Affairs, Office of Visa Services (CA/VO).

• Form Number: DS-1884.

• Respondents: Aliens petitioning for immigrant visas under INA 203(b)(4).

• Estimated Number of Respondents: 300 per year.

• Estimated Number of Responses: 300 per year.

• Average Hours Per Response: 10 minutes.

• Total Estimated Burden: 50 hours per year.

• Frequency: Once per petition.

• Obligation to Respond: Required to Obtain Benefit.

DATES: Submit comments to the Office of Management and Budget (OMB) by December 7, 2006.

ADDRESSES: Direct comments and questions to Katherine Astrich, the Department of State Desk Officer in the Office of Information and Regulatory Affairs at the Office of Management and Budget (OMB), who may be reached at 202-395-4718. You may submit comments by any of the following methods:

• E-mail: Katherine_T._Astrich@ omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: Direct requests for additional information regarding the collection listed in this notice, including requests for copies of the proposed information collection and supporting documents, to Andrea Lage of the Office of Visa Services, U.S. Department of State, 2401 E. Street, NW. L-603, Washington, DC 20522, who may be reached at (202) 663-1221 or lageab@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

DS-1884 solicits information from petitioners for special immigrant classification under Section 203(b)(4) of the Immigration and Nationality Act. An alien is classifiable as a special immigrant under Section 203(b)(4) if they meet the statutory qualifications in INA Section 101(a)(27)(D). A petitioner may apply within one year of notification by the Department of State that the Secretary has approved a recommendation that special immigrant status be accorded to the alien. DS-1884 solicits information that will assist the consular officer in ensuring that the petitioner is statutorily qualified to receive such status, including meeting the years of service and exceptional service requirements.

Methodology

Petitioners will submit this form to consular officers at post.

Dated: October 18, 2006.
Stephen A. Edson,
Deputy Assistant Secretary, Bureau of Consular Affairs, Department of State.

[FR Doc. E6-18781 Filed 11-6-06; 8:45 am]

BILLING CODE 4710-06-P